ENVIRONMENTAL PROTECTION AGENCY

40 CFR Part 180

[EPA-HQ-OPP-2007-0766; FRL-8343-1]

RIN 2070-AJ28

Pesticide Tolerance Crop Grouping Program

AGENCY: Environmental Protection Agency (EPA).

ACTION: Final rule.

SUMMARY: This final rule makes revisions to the pesticide tolerance crop grouping regulations. Crop grouping allows tolerances to be established for multiple related crops based on data from a representative set of crops. The revisions will create a new crop group for edible fungi (mushrooms), expand existing crop groups by adding new commodities, establish new crop subgroups, and revise the representative crops in some groups. Additionally, EPA is revising the general crop group regulation to explain how the Agency will implement revisions to crop groups. EPA expects these revisions to promote greater use of crop groupings for tolerance-setting purposes and, in particular, assist in retaining or making pesticides available for minor crop uses. This is the first in a series of planned crop group updates expected during the next several years.

DATES: This final rule is effective on December 7, 2007.

ADDRESSES: EPA has established a docket for this action under docket identification (ID) number EPA-HQ-OPP-2007-0766. To access the electronic docket, go to http://www.regulations.gov, select “Advanced Search,” then “Docket Search.” Insert the docket ID number where indicated and select the “Submit” button. Follow the instructions on the regulations.gov website to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Rame Cromwell, Office of Pesticide Programs, Environmental Protection Agency, 1200 Pennsylvania Ave., NW., Washington, DC 20460-0001; telephone number: 703-308-9068; fax number: 703-305-5884; e-mail address: cromwell.rame@epa.gov.

SUPPLEMENTARY INFORMATION:

I. Does this Action Apply to Me?

You may be potentially affected by this action if you are an agricultural producer or food manufacturer. Potentially affected entities may include, but are not limited to:

• Crop Production (NAICS code 111).

• Animal Production (NAICS code 112).

• Food Manufacturing and Processing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

II. Overview of this Document

A. What Action is the Agency Taking?

This final rule, under the provisions of section 408 of the Federal Food, Drug, and Cosmetic Act (FFDCA), amends EPA's regulations governing crop group tolerances for pesticides. Specifically, the rule: (1) creates a new crop group for edible fungi (mushrooms); (2) expands existing crop groups by adding new commodities; (3) establishes new crop subgroups for two groups; (4) changes the representative crops for two groups; and (5) revises the general crop group regulation in 40 CFR 180.40 to explain how the Agency will implement revisions to crop groups.

The crop grouping concept leads to an estimate of the maximum residue level (MRL) that could occur on any crop within the group. The minimum data required for a group tolerance consists of residue data for all representative commodities for a group. This action is intended to promote more extensive use of crop group tolerances and, in particular, will assist in retaining or making pesticides available for minor crop uses.

This final rule is the first in a series of planned crop group updates expected to be promulgated in the next several years.

B. What is the Agency's Authority for this Action?

EPA is authorized to establish tolerances for pesticide chemical residues in food under FFDCA section 408. EPA establishes tolerances for each pesticide based on the potential risks to human health posed by that pesticide. A tolerance is the maximum permissible residue level established for a pesticide in raw agricultural produce and processed foods. The crop group regulations currently in 40 CFR 180.40 and 180.41 enable the establishment of tolerances for a group of crops based on residue data for certain crops that are representative of the group. Crop group regulations are promulgated under section 408(e)(1)(C) which authorizes EPA to establish “general procedures and requirements to implement [section 408].” 21 U.S.C. 346 a(e)(1)(C).

III. The Proposed Rule

EPA published a notice of proposed rulemaking in the Federal Register of May 23, 2007 (77 FR 28920). Written comments were solicited and were received from four parties in response to the proposal. Comments were received from a pesticide manufacturer, an association representing pesticide manufacturers, New Zealand Food Safety Authority, and the Interregional Research Project No. 4 (IR-4).

IV. The Final Rule

In response to comments, EPA is modifying some aspects of the rule relating to commodities identification, but is adopting most provisions without change. For the reasons discussed in Unit V, EPA is making the following modifications in the final rule: (1) Add the general statement “will include cultivars, varieties, and/or hybrids of these” to replace the extensive list of hybrids to the crop groups. (2) Add Kiwi, fuzzy (Actinida chinensis) to Crop Group 13-07: Berry and Small Fruit Group.

Otherwise, EPA is promulgating the rule as proposed.

Additionally, EPA is making one technical correction to the crop group regulation. The crop group regulation currently titles crop subgroups by giving them a number corresponding to the crop group number and also a letter to distinguish between subgroups. The number and letter are separated by a hyphen. For example, within the crop group for root and tuber vegetables (Crop Group 1), the root vegetables subgroup is designated as “Crop Subgroup 1-A.” Recent amendments to existing tolerances specified the number and letter of a subgroup without including a hyphen. Thus subgroup 1-A has been listed in the amended tolerances as 1A. To avoid correcting the recent amendments to hundreds if not thousands of tolerances, EPA is changing the crop group regulation to delete the hyphen in the designation of the crop subgroups number and letter. Thus, for example, in § 180.41(c)(1)(iii), “subgroup 1-A” will become “subgroup 1A.” Subgroups for amended crop groups will also drop the hyphen before the letter distinguishing the subgroup. Thus the bulb onion subgroup will be encoded as “subgroup 3-07A” not “subgroup 3-07-A.” EPA finds that there is good cause to make this change to the crop group regulation without prior notice and comment because this is a formatting change having no substantive or procedural effect, and thus notice and comment is unnecessary.

V. Response to Comments

In this section EPA describes the comments received on the proposed rule, and EPA's response to those comments, including EPA's determination of necessary modification of the proposed rule for this final rule.

A. General Procedures for Amending Pre-existing Crop Groups

EPA is adopting provisions of the proposed rule without changes.

The final rule specifies that, when a crop group is amended in a manner that expands or contracts its coverage of commodities, EPA will (1) retain the pre-existing crop group in 40 CFR 180.41; (2) insert the revised crop group immediately after the pre-existing group in the Code of Federal Regulations (CFR); and (3) title the revised crop group in a way that clearly differentiates it from the pre-existing crop group. The revised crop group will retain roughly the same name and number as the pre-existing group except that the number will be followed by a hyphen and the final 2 digits of the year it is established.

Over time, EPA expects that tolerances for pre-existing crop groups would be upgraded and would eventually be converted to tolerances for the more recent crop groups. (See Unit VI.) The adoption of a standardized format for titling amended crop groups is specifically designed to create a clear distinction between pre-existing and amended crop groups. These procedures are necessary because when EPA expands an existing crop group it is difficult to simultaneously amend the dozens of pesticide tolerances for that crop group already in force.

One commenter objected to this new scheme claiming it may result in confusion for growers and difficulties in harmonizing U.S. tolerances with international maximum residue levels for pesticides. The commenter suggested that if the change in the crop group is significant, a distinctive new name should be given the new crop group, but if the change involves adding only minor crops and no alteration of the representative commodities then “no change in tolerance expression should be necessary when requesting label amendments adding the new minor crops.”

EPA understands that modifying existing crop groups could lead to confusion. For this reason it is adopting transparent procedures for how such modification will be published in the CFR and the titling procedure that will be used. Along these lines, an outreach effort to inform registrants, agriculture professionals, trade partners and others will be undertaken in support of these changes. EPA agrees with the commenter that if a crop group is changed in significant ways, a new descriptive name is appropriate. EPA has done just that with the berries crop group, changing the name to the berry and small fruit group to reflect the significant crops added to the group.

However, EPA disagrees with the assertion that no new crop group (and crop group name) is needed when only minor crops are added and the representative commodities remain the same. Unless EPA creates a new crop group when it expands the coverage of an existing group by adding new commodities, EPA will be expanding the scope of all then-current existing pesticide tolerances for that existing crop group. For example, the revisions to Crop Group 3 involve adding 19 additional commodities. If EPA did not establish a new crop group for this expanded set of commodities but instead just added these commodities to the existing crop group, the tolerance for the existing crop group already in the CFR would instantly expand to cover 19 additional commodities. This would be problematic because EPA would, in effect, be establishing new tolerances for the added commodities without following the statutory procedures for establishing a new tolerance or making the required safety findings. There is no provision in section 408 for waiving these procedural and substantive requirements for new tolerances.

B. Crop Group 3-07: Bulb Vegetable Group

EPA is adopting its proposal with one change, not to list specific hybrids. The final rule retains the pre-existing Crop Group 3 and titles the revised group as Crop Group 3-07.

1. Add commodities. The final rule revises Bulb Vegetable Group 3-07, expanding the existing seven commodities to 26 commodities.

2. Change the names of representative commodities. The final rule changes the name of the representative commodities for the new crop group by designating onion, bulb and onion, green as the representative commodities.

3. Create crop subgroups. The final rule retains the proposed addition of two subgroups to the revised crop group.

i. Bulb onion subgroup 3-07A . Representative crop. Onion, bulb. Eleven commodities are included in this subgroup.

ii. Green onion subgroup 3-07B. Representative crop. Onion, green. Fifteen commodities are included in this subgroup.

4. Change of format. The final rule converts the current narrative format of the existing group to tabular form.

5. Change the name. The final rule drops the descriptor “(Allium spp.)” from the name.

A commenter recommended that specific hybrids in the Bulb Vegetable Crop Group should not be listed. The commenter claimed that listing some hybrids and/or cultivars can cause confusion and uncertainty for growers of hybrids that are not listed.

EPA agrees with the commenter that extensive listings of hybrids are not necessary and could be confusing. Instead, the Agency is replacing the extensive lists of hybrids and cultivars with a general statement that will include cultivars, varieties, and/or hybrids of these commodities.

C. Crop Group 13-07: Berry and Small Fruit Group

EPA is adopting its proposal with an added commodity. The final rule revises and expands the berries crop group, but retains pre-existing Crop Group 13 and titles the revised group Crop Group 13-07.

1. Add commodities. Revised Crop Group 13-07 is expanded from the existing Crop Group 13 of 10 to 46 commodities.

2. Change the crop group name. The final rule changes the name of “Crop Group 13: Berries Group” to “Crop Group 13-07: Berry and Small Fruit Group.”

3. Revise the existing subgroups. The final rule revises 13-07 to have subgroups, 13-07A and 13-07B. Subgroup13-07A is similar to existing 13A except that wild raspberry has been added. Subgroup 13-07B will have 13 additional commodities for a total of 19 commodities.

4. Create new subgroups. The final rule revises new crop group 13-07 to add six new subgroups.

i. Large shrub berry subgroup 13-07C. (Representative commodities. Elderberry or Mulberry). 13 commodities are included in this subgroup.

ii. Small fruit vine climbing 13-07D. (Representative commodities. Grape and Fuzzy kiwifruit). Seven commodities are included in this subgroup.

iii. Small fruit vine climbing subgroup, except grape 13-07E. (Representative commodity. Fuzzy kiwifruit). Six commodities are included in this subgroup.

iv. Small fruit vine climbing subgroup except fuzzy kiwifruit, Grape 13-07F. (Representative commodity. Grape). Six commodities are included in this subgroup.

v. Low growing berry subgroup 13-07G. (Representative commodity. Strawberry). Nine commodities are included in this subgroup.

vi. Low growing berry subgroup, except strawberry 13-07H. (Representative commodity. Cranberry). Eight commodities are included in this subgroup.

Several comments were received regarding the addition of kiwifruit to this crop group. One commenter requested that both “Kiwifruit, hardy” and “Kiwifruit, fuzzy” be removed from the crop group and a new group be created for inedible skinned tropical fruit. Another commenter asked that only “Kiwifruit, fuzzy” be deleted from the group. This commenter argued that fuzzy kiwifruit are different in size and in plant growth habits from other fruits in the group as well as being the only fruit in the group with inedible skin. The commenter further noted that any future inclusion of fuzzy kiwifruit in a crop group should recognize that there are currently two cultivars presently being grown commercially (Acinidia deliciosa and Actinidia chinensis). Finally, this commenter requested that hardy kiwifruit be renamed to clearly differentiate this commodity from the other more traditional kiwifruit (possibly by calling it “Argot fruit”) and using the more generic name “Kiwifruit” (defined as Actinidia deliciosa or Actinidia chinensis) instead of the proposed name “Kiwifruit, fuzzy” (currently defined as only Actinidia deliciosa).

EPA believes that it is appropriate to keep both hardy and fuzzy kiwifruit as members of the berry and small fruit crop group. Kiwifruit is considered a trellis crop similar to grape culture, and its peel, while traditionally deemed inedible, is becoming increasingly popular to eat. Nonetheless, EPA will also consider adding the fuzzy kiwifruit to a tropical fruit crop group under development. Additionally, EPA agrees with the recommendation to amend the definition of fuzzy kiwifruit to include both its green (Acinidia deliciosa) and yellow (Actinidia chinensis) varieties. Both varieties are currently grown in the U.S., and although the yellow fleshed varieties have less surface hair on the fruit than the green varieties, both varieties are approximately the same size and are grown under the same conditions. Finally, EPA will retain the name “Kiwifruit, hardy” because it is a common commodity name in North America for the small, grape-like varieties of kiwifruit. It includes the Arguta species and the scientific name is Actinidia arguta.

One comment was received concerning adding Low growing berry subgroups to the berry and small fruit group. The commenter asserted that these subgroups contain diverse berries which vary significantly in harvest practices (e.g. strawberry vs. blueberry) as well as growth habit (e.g., blueberry vs. cranberry). The commenter stated that, although the approach of creating inclusive new crop groups is desirable, in these instances it may be unlikely that pest control solutions are likely to have similar directions for use (number of applications, pre-harvest interval, use rate, etc.), thus making the probability of having the same tolerance quite low. The commenter speculated that the likelihood of use of these subgroups may be low.

EPA disagrees that the commodities in these subgroups are too diverse. This subgroup was formed based on the commodities being either short shrubs or herbaceous perennials less than two feet in height. Most of these berries are from botanical families of Ericaceae and Rosaceae and have similar sized fruits (1/2 to 1/3 inches in length), except the strawberry, which is larger in size. Strawberry is selected as representative commodity for this subgroup (13-07G) of nine commodities based on its potential for higher residues related to the presence of seeds on its edible skin, higher per capita consumption, cultural practices, and larger commercial production and geographical locations. The blueberries in these subgroups are the lowbush types that are low growing (less than two feet) and similar to others in size in the subgroups. The highbush blueberry is in a separate crop subgroup (13-07B). The Agency is already receiving requests to utilize these subgroups for tolerance setting.

D. New Crop Group 21: Edible Fungi Group

EPA received no comments on the addition of this new group and adopts its proposed rule without change.

E. Technical Corrections

No comments were submitted on the proposed technical corrections section, and EPA adopts its proposed rule without change.

F. Other Comments

A commenter suggested significant changes to the preamble regarding the background of the rule.

These comments did not pertain to the substance of the rule. EPA will consider these comments in the development of preambles for future proposed rules on crop groups.

The Agency received a comment asking how the proposed changes will affect established product labels, including use directions for crops that are moved into new crop grouping arrangements.

There will be no EPA required changes to existing product labels. For product labels, crops are not automatically listed with the new crop group members. In addition, with respect to pre-existing tolerances, the existing crop groups will remain in place until a petition request is made to revise them or a chemical goes through the registration review process. At that time, and at the discretion of the registrant, labels would also have to be amended to reflect the changes to add the new crop group.

Another commenter asked how the proposed changes would affect residue programs of registrants and IR-4 that are now in progress and may have been initiated under soon-to-be-superseded crop groupings. The commenter asked whether such field residue programs can be completed under the existing crop groupings, and if adapting the programs to the new crop groups would delay submission of tolerance petitions.

The changes in the final rule will not impact on-going residue programs nor should it delay submissions of tolerance petitions. The changes being made do not require different field trial data for the representative commodities. In the case of Crop Group 3-07: Bulb Vegetable Group, the two representative commodities are still bulb onion and green onion. The rule will add subgroups and include additional crops. The field residue data requirements remain the same. Therefore, the only changes required for submission of the tolerance petitions will be administrative in that a new petition should reflect the new crop groups or subgroups. As stated in the proposed rule, once this rule is final, EPA will not establish new tolerances under the pre-existing groups.

The Agency received a comment on whether an administrative process could replace tolerance petitions to speed up and smooth the revision of existing tolerances affected by changes in crop groupings, especially since most of the additions of orphan/minor crops will not impact dietary risk assessment. The commenter suggested that there is a potential for unfair marketing advantage for new active ingredients versus currently registered active ingredients, if a tolerance petition is always required. It was proposed that IR-4 might play a facilitating role in administrative updates for all active ingredients affected by a particular crop grouping change.

In response, EPA would note that section 408 sets forth specific rule-making procedures for establishing and modifying tolerances. The process for taking advantage of the new group of edible fungi or expanded and updated groups of bulb vegetables and berries involves making a tolerance petition to EPA. The administrative and governing statutory requirements are analogous, whether the petition involves a single crop or one of the new or updated crop groups.

EPA received a comment that the conversion of existing crop group tolerances to the new crop group definitions could require petition action by a registrant and amendments to labels under the plan proposed by EPA (see Unit III. A. of the preamble of the proposed rule). The commenter stated that when a tolerance petition for one crop or group includes a request to amend a different tolerance solely to conform to a new crop group definition, the registration service fee under FIFRA section 33 should not be imposed or increased for that amendment action if it does not involve review of any data, or for subsequent conforming label amendments.

The fees for making label changes listed under PRIA are clearly defined. However, for this sort of change the registrant may request a discretionary refund for data that have already been reviewed. EPA will evaluate these requests as they are submitted, but it will not, at this time, make an across-the-board determination on PRIA fees. Further, registrants may choose not to make these changes when submitting a petition request for other crops. Because of the demonstrated advantages of the updated or new crop groups, EPA will eventually propose to convert existing crop groups on its own through mechanisms such as the registration review process.

Finally, EPA received a comment asking which crops from groups covered by crop group tolerances should be listed on the label in order to cover use of the pesticide on the entire group of all crops, selected crops, and representative crops only. EPA agrees that there are some coordination issues relative to labeling and tolerance expression and will address this question in other ways and through outreach activities.

VI. Implementation

After the effective date, when a crop group is amended in a manner that expands or contracts its coverage of commodities, EPA will (1) retain the pre-existing crop group in § 180.41; (2) insert the revised crop group immediately after the pre-existing crop group in the CFR; (3) title the revised crop group in a way that clearly differentiates it from the pre-existing crop group.

The revised crop group will retain roughly the same name and number as the pre-existing group except the number will be followed by a hyphen and the final digits of the year established. (e.g., Crop Group 3-07)

EPA will initially retain pre-existing crop groups that have been superseded by revised crop groups. EPA will not establish new tolerances under the pre-existing groups. Further, EPA plans to eventually convert tolerances for any pre-existing crop group to tolerances with coverage of the revised crop group. This conversion will be effected both through the registration review process and in the course of preparing new risk assessments for a pesticide. EPA requests that petitioners for tolerances address this issue in their petitions.

For existing petitions for which a Notice of Filing has been published, the Agency will attempt to conform these petitions to this rule.

VII. Statutory and Executive Order Reviews

A. Executive Order 12866

Under Executive Order 12866, entitled Regulatory Planning and Review (58 FR 51735, October 4, 1993), the Office of Management and Budget (OMB) has designated this final rule as a not-significant regulatory action under section 3(f) of the Executive Order.

EPA prepared an analysis of the potential costs and benefits associated with this action. This analysis is contained in “Economic Analysis Final Expansion of Crop Grouping Program.” A copy of the analysis is available in the docket and is briefly summarized here.

This is a burden-reducing regulation. Crop grouping has saved money by permitting the results of pesticide exposure studies for one crop to be applied to other, similar crops. The regulation exploits this opportunity for saving money by expanding certain crop groups and creating a new crop group for edible fungi.

The primary beneficiaries of the regulation are minor crop producers and consumers. Specialty crop producers will benefit because lower regulatory costs will encourage more products to be registered on minor crops, providing additional tools for pest control. Consumers will benefit by having a larger supply of imported and domestically produced specialty produce at potentially lower costs. Secondary beneficiaries are pesticide registrants, who benefit because expanded markets for pesticide products will lead to increased sales. The IR-4 Project and EPA, which are publicly funded Federal government entities, will also more efficiently use resources as a result of the rule. EPA will also benefit from broader operational efficiency gains, which result from fewer emergency pesticide use requests from specialty crop growers, the ability to conduct risk assessments based on crop grouping, greater ease of establishing import tolerances, greater capacity to assess risks of pesticides used on crops not grown in the US, further harmonization of crop classification and nomenclature, harmonized commodity import and export standards, and increased potential for resource sharing between EPA and other pesticide regulatory agencies. Revisions to the crop grouping program will result in no appreciable costs or negative impacts to consumers, specialty crop producers, pesticide registrants, the environment or human health.

No comments were received on the costs or burdens described in the Economic Analysis for the proposed rule.

B. Paperwork Reduction Act

This rule does not contain any new information collection requirements that would need approval by OMB under the provisions of the Paper Reduction Act (PRA), 44 U.S.C. 3501 et seq. However, the rule is expected to reduce mandatory paperwork due to a reduction in required studies. The rule will have the effect of reducing the number of residue chemistry studies because fewer representative crops would need to be tested under a crop grouping scheme, than would otherwise be required.

C. Regulatory Flexibility Act

Pursuant to section 605(b) of the Regulatory Flexibility Act (RFA), 5 U.S.C. 601 et seq., the Agency hereby certifies that this rule will not have a significant adverse economic impact on a substantial number of small entities. This rule does not have any direct adverse impacts on small businesses, small non-profit organizations, or small local governments.

For purposes of assessing the impacts of today's rule on small entities, small entity is defined as: (1) a small business according to the small business size standards established by the Small Business Administration (SBA); (2) a small governmental jurisdiction that is a government of a city, county, town, school district or special district with a population of less than 50,000; and (3) a small organization that is any not-for-profit enterprise which is independently owned and operated and is not dominant in its field.

In determining whether a rule has a significant economic impact on a substantial number of small entities, the impact of concern is any significant adverse economic impact on small entities, since the primary purpose of the regulatory flexibility analyses is to identify and address regulatory alternatives ‘‘which minimize any significant economic impact of the final rule on small entities'' (5 U.S.C. sections 603 and 604). Thus, an agency may certify that a rule will not have a significant economic impact on a substantial number of small entities if the rule relieves regulatory burden, or otherwise has positive economic effects on all of the small entities subject to the rule.

This rule provides regulatory relief and regulatory flexibility because the new or expanded crop groups ease the process for pesticide manufacturers to obtain pesticide tolerances on greater numbers of crops and make it likely that pesticides will be more widely available to growers for use on crops, particularly specialty crops.

D. Unfunded Mandates Reform Act

Under Title II of the Unfunded Mandates Reform Act of 1995 (UMRA) (Public Law 104-4), EPA has determined that this action does not contain a Federal mandate that may result in expenditures of $100 million or more for State, local, and tribal governments, in the aggregate, or the private sector in any 1 year. Accordingly, this rule is not subject to the requirements of sections 202, 203, 204, and 205 of UMRA.

E. Executive Order 13132

Pursuant to Executive Order 13132, entitled Federalism (64 FR 43255, August 10, 1999), EPA has determined that this rule does not have federalism implications, because it will not have substantial direct effects on the states, on the relationship between the national government and the states, or on the distribution of power and responsibilities among the various levels of government, as specified in the Order. Thus, Executive Order 13132 does not apply to this rule.

F. Executive Order 13175

As required by Executive Order 13175, entitled Consultation and Coordination with Indian Tribal Governments (65 FR 67249, November 6, 2000), EPA has determined that this rule does not have tribal implications because it will not have any affect on tribal governments, on the relationship between the Federal government and the Indian tribes, or on the distribution of power and responsibilities between the Federal government and Indian tribes, as specified in the Order. Thus, Executive Order 13175 does not apply to this rule.

G. Executive Order 13045

Executive Order 13045, entitled Protection of Children from Environmental Health Risks and Safety Risks (62 FR 19885, April 23, 1997) does not apply to this rule because this action is not designated as an economically significant regulatory action as defined by Executive Order 12866 (see Unit IV.A.), nor does it establish an environmental standard, or otherwise have a disproportionate effect on children.

H. Executive Order 13211

This rule is not subject to Executive Order 13211, entitled Actions Concerning Regulations that Significantly Affect Energy Supply, Distribution, or Use (66 FR 28355, May 22, 2001) because it is not designated as an regulatory action as defined by Executive Order 12866 (see Unit IV.A.), nor is it likely to have any adverse effect on the supply, distribution, or use of energy.

I. National Technology Transfer and Advancement Act

Section 12(d) of the National Technology Transfer and Advancement Act of 1995 (NTTAA), (15 U.S.C. 272 note) directs EPA to use voluntary consensus standards in its regulatory activities unless to do so would be inconsistent with applicable law or impractical. Voluntary consensus standards are technical standards (e.g., materials specifications, test methods, and sampling procedures) that are developed or adopted by voluntary consensus standards bodies. This rule does not impose any technical standards that would require EPA to consider any voluntary consensus standards.

J. Executive Order 12898

Under Executive Order 12898, entitled Federal Actions to Address Environmental Justice in Minority Populations and Low-Income Populations (59 FR 7629, February 16, 1994), the Agency has not considered environmental justice-related issues because this rule does not have an adverse impact on the environmental and health conditions in low-income and minority communities.

The Agency hereby certifies that this rule will not have significant negative economic impact on a substantial number of small entities.

VIII. Congressional Review Act

The Congressional Review Act, 5 U.S.C. 801 et seq., generally provides that before a rule may take effect, the Agency promulgating the rule must submit a rule report to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 180

Environmental protection, Administrative practice and procedures, pesticides and pests.

Dated: November 29, 2007.
James B. Gulliford,
Assistant Administrator for Prevention, Pesticides, and Toxic Substances.

Therefore, 40 CFR chapter I is amended as follows:

PART 180—[AMENDED]

1. The authority citation for part 180 continues to read as follows:

Authority: 21 U.S.C. 321(q), 346a, and 371

2. Section 180.1 is amended by removing from the table in paragraph (g) the entries for “Caneberries”, “Onions”, “Onions (dry bulb only)”, and “Onions, green” and by adding alphabetically new entries for “Caneberry”, “Onion”, “Onion, bulb”, and “Onion, green”, “Garlic” and “Raspberry” to read as follows:

§ 180.1 Definitions and interpretations.

* * * * *

(g) * * *

A | B
* * * * * * *
Caneberry | Rubus spp. (including blackberry; Rubus caesius (youngberry); Rubus loganbaccus (loganberry); Rubus idaeus (red and black raspberry); cultivars, varieties, and/or hybrids of these.
* * * * * * *
Garlic | Garlic, great headed; garlic, and serpent garlic.
* * * * * * *
Onion | Bulb onion; green onion; and garlic.
Onion, bulb | Bulb onion; garlic; great headed garlic; serpent garlic; Chinese onion; pearl onion; potato onion; and shallot, bulb.
Onion, green | Green onion; lady's leek; leek; wild leek; Beltsville bunching onion; fresh onion; tree onion, tops; Welsh onion; and shallot, fresh leaves.
* * * * * * *
Raspberry | Rubus spp. (including bababerry; black raspberry; blackcap; caneberry; framboise; frambueso; himbeere; keriberry; mayberry; red raspberry; thimbleberry; tulameen; yellow raspberry; and cultivars, varieties, and/or hybrids of these).
* * * * * * *

* * * * *

3. Section 180.40 is amended by redesignating paragraph (j) as paragraph (k) and adding new paragraph (j) to read as follows:

§ 180.40 Tolerances for crop groups.

* * * * *

(j) When EPA amends a crop group in a manner that expands or contracts the commodities that are covered by the group, EPA will initially retain the pre-existing as well as the revised crop group in the CFR. The revised crop group will have the same number as the pre-existing crop group; however, the revised crop group number will be followed by a hyphen and the final two digits of the year in which it was established (e.g., if Crop Group 1 is amended in 2007, the revised group will be designated as Crop Group 1-07). If the pre-existing crop group had crop subgroups, these subgroups will be numbered in a similar fashion in the revised crop group. The name of the revised crop group will not be changed from the pre-existing crop group unless the revision so changes the composition of the crop group that the pre-existing name is no longer accurate. Once a revised crop group is established, EPA will no longer establish tolerances under the pre-existing crop group. At appropriate times, EPA will amend tolerances for crop groups that have been superseded by revised crop groups to conform the pre-existing crop group to the revised crop group. Once all of the tolerances for the pre-existing crop group have been updated, the pre-existing crop group will be removed from the CFR.

* * * * *

§ 180.41 [Amended]

4. Section 180.41 is amended by removing the hyphens in the crop subgroup numbers listed in the tables in paragraphs (c)(1)(ii), (c)(1)(iii), (c)(4)(ii), (c)(4)(iii), (c)(5)(ii), (c)(5)(iii), (c)(6)(ii), (c)(6)(iii), (c)(7)(iii), (c)(9)(ii), (c)(9)(iii), (c)(13)(ii), (c)(13)(iii), (c)(19)(ii), and (c)(19)(iii).

5. Section 180.41 is further amended by removing the commodities: cranberry, grape, kiwifruit, mushroom, and strawberry from paragraph (b); by revising paragraph (c)(3), by redesignating paragraphs (c)(4) through (c)(19) as paragraphs (c)(5) through (c)(20), respectively, and by adding a new paragraph (c)(4) to read as follows:

§ 180.41 Crop group tables.

(c) * * *

(3) Crop Group 3. Bulb Vegetables (Allium spp.) Group.

(i) Representative commodities. Onion, green; and onion, dry bulb.

(ii) Commodities. The following is a list of all the commodities in Crop Group 3.

Crop Group 3: Bulb Vegetable (Allium spp.) Group—Commodities
Garlic, bulb (Allium sativum)
Garlic, great headed, (elephant) (Allium ampeloprasum var. ampeloprasum)
Leek (Allium ampeloprasum, A. porrum, A. tricoccum)
Onion, dry bulb and green (Allium cepa, A. fistulosum)
Onion, Welsh, (Allium fistulosum)
Shallot (Allium cepa var. cepa)

(4) Crop Group 3-07. Bulb Vegetable Group. (i) Representative Commodities. Onion, bulb and onion, green.

(ii) Table. The following Table 1 lists all the commodities listed in Crop Group 3-07 and identifies the related crop subgroups.

TABLE 1.—Crop Group 3-07: Bulb Vegetable Group
Commodities | Related crop subgroups
Chive, fresh leaves (Allium schoenoprasum L.) | 3-07B
Chive, Chinese, fresh leaves (Allium tuberosum Rottler ex Spreng) | 3-07B
Daylily, bulb (Hemerocallis fulva (L.) L. var. fulva) | 3-07A
Elegans hosta (Hosta Sieboldiana (Hook.) Engl) | 3-07B
Fritillaria, bulb (Fritillaria L. fritillary) | 3-07A
Fritillaria, leaves (Fritillaria L. fritillary) | 3-07B
Garlic, bulb (Allium sativum L. var. sativum) (A. sativum Common Garlic Group) | 3-07A
Garlic, great headed, bulb (Allium ampeloprasum L. var. ampeloprasum) (A. ampeloprasum Great Headed Garlic Group) | 3-07A
Garlic, Serpent, bulb (Allium sativum var. ophioscorodon or A. sativum Ophioscorodon Group) | 3-07A
Kurrat (Allium kurrat Schweinf. Ex. K. Krause or A. ampeloprasum Kurrat Group) | 3-07B
Lady's leek (Allium cernuum Roth) | 3-07B
Leek Allium porrum L. (syn: A. ampeloprasum L. var. porrum (L.) J. Gay) (A.ampeloprasum Leek Group) | 3-07B
Leek, wild (Allium tricoccum Aiton) | 3-07B
Lily, bulb (Lilium spp. (Lilium Leichtlinii var. maximowiczii, Lilium lancifolium)) | 3-07A
Onion, Beltsville bunching (Allium x proliferum (Moench) Schrad.) (syn: Allium fistulosum L. x A. cepa L.) | 3-07B
Onion, bulb (Allium cepa L. var.cepa) (A. cepa Common Onion Group) | 3-07A
Onion, Chinese, bulb (Allium chinense G. Don.) (syn: A. bakeri Regel) | 3-07A
Onion, fresh (Allium fistulosum L. var. caespitosum Makino) | 3-07B
Onion, green (Allium cepa L. var. cepa) (A. cepa Common Onion Group) | 3-07B
Onion, macrostem (Allium macrostemom Bunge) | 3-07B
Onion, pearl (Allium porrum var. sectivum or A. ampeloprasum Pearl Onion Group) | 3-07A
Onion, potato, bulb (Allium cepa L. var. aggregatum G. Don.) (A. cepa Aggregatum Group) | 3-07A
Onion, tree, tops (Allium x proliferum (Moench) Schrad. ex Willd.) (syn: A. cepa var. proliferum (Moench) Regel; A. cepa L. var. bulbiferum L.H. Bailey; A. cepa L. var. viviparum (Metz.) Alef.) | 3-07B
Onion, Welsh, tops (Allium fistulosum L.) | 3-07B
Shallot, bulb (Allium cepa var. aggregatum G. Don.) | 3-07A
Shallot, fresh leaves (Allium cepa var. aggregatum G. Don.) | 3-07B
Cultivars, varieties, and/or hybrids of these. |

(iii) Table. The following Table 2 identifies the crop subgroups for Crop Group 3-07, specifies the representative commodities for each subgroup and lists all the commodities included in each subgroup.

TABLE 2.—Crop Group 3-07: Subgroup Listing
Representative commodities | Commodities
Crop subgroup 3-07A. Onion, bulb, subgroup. Onion, bulb. | Daylily, bulb; fritillaria, bulb; garlic, bulb; garlic, great-headed, bulb; garlic, serpent, bulb; lily, bulb; onion, bulb; onion, Chinese, bulb; onion, pearl; onion, potato, bulb; shallot, bulb; cultivars, varieties, and/or hybrids of these.
Crop subgroup 3-07B. Onion, green, subgroup. Onion, green. | Chive, fresh leaves; chive, Chinese, fresh leaves; elegans hosta; fritillaria, leaves; kurrat; lady's leek; leek; leek, wild; Onion, Beltsville bunching; onion, fresh; onion, green; onion, macrostem; onion, tree, tops; onion, Welsh, tops; shallot, fresh leaves; cultivars, varieties, and/or hybrids of these.

* * * * *

6. Section 180.41 is further amended by redesignating newly designated paragraphs (c)(15) through (c)(20) as paragraphs (c)(16) through (c)(21), respectively, and by adding a new paragraph (c)(15) and paragraph (c)(22) to read as follows:

§ 180.41 Crop group tables.

(c) * * *

(15) Crop Group 13-07. Berry and Small Fruit Crop Group

(i) Representative commodities. Any one blackberry or any one raspberry; highbush blueberry; elderberry or mulberry; grape; fuzzy kiwifruit, and strawberry.

(ii) Table. The following Table 1 lists all the commodities listed in Crop Group 13-07 and identifies the related crop subgroups.

TABLE 1.—Crop Group 13-07: Berry and Small Fruit Crop Group
Commodities | Related crop subgroups
Amur river grape (Vitis amurensis Rupr) | 13-07D, 13-07E, 13-07F
Aronia berry (Aronia spp.) | 13-07B
Bayberry (Myrica spp.) | 13-07C
Bearberry (Arctostaphylos uva-ursi) | 13-07G, 13-07H
Bilberry (Vaccinium myrtillus L.) | 13-07G, 13-07H
Blackberry (Rubus spp.) (including Andean blackberry, arctic blackberry, bingleberry, black satin berry, boysenberry, brombeere, California blackberry, Chesterberry, Cherokee blackberry, Cheyenne blackberry, common blackberry, coryberry, darrowberry, dewberry, Dirksen thornless berry, evergreen blackberry, Himalayaberry, hullberry, lavacaberry, loganberry, lowberry, Lucretiaberry, mammoth blackberry, marionberry, mora, mures deronce, nectarberry, Northern dewberry, olallieberry, Oregon evergreen berry, phenomenalberry, rangeberry, ravenberry, rossberry, Shawnee blackberry, Southern dewberry, tayberry, youngberry, zarzamora, and cultivars, varieties and/or hybrids of these. | 13-07A
Blueberry, highbush (Vaccinium spp.) | 13-07B
Blueberry, lowbush (Vaccinium angustifolium Aiton) | 13-07B
Buffalo currant (Ribes aureum Pursh) | 13-07B
Buffaloberry (Shepherdia argentea (Pursh) Nutt.) | 13-07C
Che (Cudrania tricuspidata Bur. Ex Lavallee) | 13-07C
Chilean guava (Myrtus ugni Mol.) | 13-07B
Chokecherry (Prunus virginiana L.) | 13-07C
Cloudberry (Rubus chamaemorus L.) | 13-07G, 13-07H
Cranberry (Vaccinium macrocarpon Aiton) | 13-07G, 13-07H
Currant, black (Ribes nigrum L.) | 13-07B
Currant, red (Ribes rubrum L.) | 13-07B
Elderberry (Sambucus spp.) | 13-07B, 13-07C
European barberry (Berberis vulgaris L.) | 13-07B
Gooseberry (Ribes spp.) | 13-07B, 13-07D
Grape (Vitis spp.) | 13-07D, 13-07F
Highbush cranberry (Viburnum opulus L. var. Americanum Aiton) | 13-07B
Honeysuckle, edible (Lonicera caerula L. var. emphyllocalyx Nakai, Lonicera caerula L var . edulis Turcz. ex herder) | 13-07B
Huckleberry (Gaylussacia spp.) | 13-07B
Jostaberry (Ribes x nidigrolaria Rud. Bauer and A. Bauer) | 13-07B
Juneberry (Saskatoon berry) (Amelanchier spp.) | 13-07B, 13-07C
Kiwifruit, fuzzy (Actinidia deliciosa A. Chev.) (C.F. Liang and A.R. Fergusons, Actinida chinensis Planch.) | 13-07D, 13-07E
Kiwifruit, hardy (Actinidia arguta (Siebold and Zucc.) Planch. ex Miq) | 13-07D, 13-07E, 13-07F
Lingonberry (Vaccinium vitis-idaea L.) | 13-07B, 13-07G 13-07H
Maypop (Passiflora incarnata L.) | 13-07E, 13-07F
Mountain pepper berries (Tasmannia lanceolata)(Poir.) A.C.Sm. | 13-07C
Mulberry (Morus spp.) | 13-07C
Muntries (Kunzea pomifera F. Muell.) | 13-07G, 13-07H
Native currant (Acrotriche depressa R. BR.) | 13-07B
Partridgeberry (Mitchella repens L.) | 13-07G, 13-07H
Phalsa (Grewia subinaequalis DC.) | 13-07C
Pincherry (Prunus pensylvanica L.f.) | 13-07C
Raspberry, black and red (Rubus spp.) | 13-07A
Riberry (Syzygium luehmannii) | 13-07C
Salal (Gaultheria shallon Pursh.) | 13-07B, 13-07C
Schisandra berry (Schisandra chinensis (Turcz.) Baill.) | 13-07D, 13-07E, 13-07F
Sea buckthorn (Hippophae rhamnoides L.) | 13-07B
Serviceberry (Sorbus spp.) | 13-07C
Strawberry (Fragaria x ananassa Duchesne) | 13-07G
Wild raspberry (Rubus muelleri Lefevre ex P.J. Mull) | 13-07A | Cultivars, varieties, and/or hybrids of these. |

(iii) Table. The following Table 2 identifies the crop subgroups for Crop Group 13-07, specifies the representative commodities for each subgroup and lists all the commodities included in each subgroup.

TABLE 2.—Crop Group 13-07: Subgroup Listing
Representative commodities | Commodities
Crop Subgroup 13-07A. Caneberry subgroup
Any one blackberry or any one raspberry. | Blackberry; loganberry; raspberry, red and black; wild raspberry; cultivars, varieties, and/or hybrids of these.
Crop Subgroup 13-07B. Bushberry subgroup.
Blueberry, highbush. | Aronia berry; blueberry, highbush; blueberry, lowbush; buffalo currant; Chilean guava; currant, black; currant, red; elderberry; European, barberry; gooseberry; cranberry, highbush; honeysuckle, edible; huckleberry; jostaberry; Juneberry; lingonberry; native currant; salal; sea buckthorn; cultivars, varieties, and/or hybrids of these.
Crop Subgroup 13-07C. Large shrub/tree berry subgroup.
Elderberry or mulberry. | Bayberry; buffaloberry; che; chokecherry; elderberry; Juneberry; mountain pepper berries; mulberry; phalsa; pincherry; riberry; salal; serviceberry; cultivars, varieties, and/or hybrids of these.
Crop Subgroup 13-07D. Small fruit vine climbing subgroup.
Grape and fuzzy kiwifruit. | Amur river grape; gooseberry; grape; kiwifruit, fuzzy; kiwifruit, hardy; Maypop; schisandra berry; cultivars, varieties, and /or hybrids of these.
Crop Subgroup 13-07E. Small fruit vine climbing subgroup, except grape.
Fuzzy kiwifruit. | Amur river grape; gooseberry; kiwifruit, fuzzy; kiwifruit, hardy; Maypop; schisandra berry; cultivars, varieties, and/or hybrids of these.
Crop Subgroup 13-07F. Small fruit vine climbing subgroup except fuzzy kiwifruit.
Grape. | Amur river grape; gooseberry; grape; kiwifruit, hardy; Maypop; schisandra berry; cultivars varieties, and/or hybrids of these.
Crop Subgroup 13-07G. Low growing berry subgroup.
Strawberry. | Bearberry; bilberry; blueberry, lowbush; cloudberry; cranberry; lingonberry; muntries; partridgeberry; strawberry; cultivars, varieties, and/or hybrids of these.
Crop Subgroup 13-07H. Low growing berry subgroup, except strawberry.
Cranberry | Bearberry; bilberry; blueberry, lowbush; cloudberry; cranberry; lingonberry; muntries; partridgeberry; cultivars, varieties, and/or cultivars of these.

(22) Crop Group 21. Edible fungi Group.

(i) Representative commodities. White button mushroom and any one oyster mushroom or any Shiitake mushroom.

(ii) Table. The following is a list of all the commodities in Crop Group 21. There are no related subgroups.

Crop Group 21: Edible Fungi Group—Commodities
Blewitt, Lepista nuda (Tricholomataceae)
Bunashimeji, Hypsizygus marrmoreus (Agaricaceae)
Chinese mushroom, Volvariella volvacea (Bull.) Singer (Pluteaceae)
Enoki, Flammulina velutipes (Curt.) Singer (Tricholomataceae)
Hime-Matsutake, Agaricus blazei Murill (Agaricaeae)
Hirmeola, Auricularia auricular (Auricularicaceae)
Maitake, Grifola frondosa (Polyporaceae)
Morel, Morchella spp. (Morchellaceae)
Nameko, Pholiota nameko, (Strophariaceae)
Net Bearing Dictyophora, Dictyophora indusiata (Phallaceae)
Oyster mushroom, Pleurotus spp. (Tricholomataceae)
Pom Pom, Hericium erinaceus (Hydnaceae)
Reishi mushroom, Ganoderma lucidum (Leyss. Fr.) Karst. (Ganodermataceae)
Rodman's agaricus, Agaricus bitorquis (Quel.) Saccardo (Agaricaceae)
Shiitake mushroom, Lentinula edodes (Berk.) Pegl. (Polyporaceae)
Shimeji, Tricholoma conglobatum, (Tricholomataceae)
Stropharia, Stropharia spp. (Strophariaceae)
Truffle, Tuber spp. (Tuberaceae)
White button mushroom, Agaricus bisporous (Lange) Imbach (Agaricaceae)
White Jelly Fungi, Tremella fuciformis (Tremellaceae)

[FR Doc. E7-23659 Filed 12-6-07; 8:45 am]

BILLING CODE 6560-50-S